DEPARTMENT OF COMMERCE

International Trade Administration

[A-570-851]

Certain Preserved Mushrooms From the People's Republic of China: Final Rescission of Antidumping Duty New Shipper Review; 2015

AGENCY: Enforcement and Compliance, International Trade Administration, Department of Commerce.

SUMMARY: The Department of Commerce (Department) published its Preliminary Rescission for the new shipper review (NSR) of the antidumping duty order on certain preserved mushrooms from the People's Republic of China on August 8, 2016. The period of review (POR) is February 1, 2015, through July 31, 2015. For the final results of this review, as discussed below, we continue to find that the single U.S. sale made by Linyi Yuqiao International Trade Co., Ltd. (Yuqiao) during the POR is not bona fide. Because any weighted average dumping margins calculated in a NSR must be based solely on bona fide sales, we are rescinding this NSR.

DATES: Effective January 5, 2017.

FOR FURTHER INFORMATION CONTACT: Michael J. Heaney or Erin Kearney, AD/CVD Operations, Office VI, Enforcement and Compliance, International Trade Administration, Department of Commerce, 1401 Constitution Avenue NW., Washington, DC 20230; telephone: (202) 482-4475 and (202) 482-0167 respectively.

SUPPLEMENTARY INFORMATION:

Background

On August 8, 2016, the Department of Commerce (Department) published its Preliminary Rescission for the NSR of the antidumping duty order on certain preserved mushrooms from the People's Republic of China.¹ For a complete description of the events that followed the publication of the Preliminary Rescission, see the Issues and Decision Memorandum.² The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly at http://enforcement.trade.gov/frn/index.html. The signed Issues and Decision Memorandum and the electronic version of the Issues and Decision Memorandum are identical in content.

¹ See Certain Preserved Mushrooms from the People's Republic of China: Preliminary Rescission of 2015 Antidumping Duty New Shipper Review, 81 FR 52403 (August 8, 2016) (Preliminary Rescission); see also Certain Preserved Mushrooms from the People's Republic of China: Notice of Amendment of Final Determination of Sales at Less Than Fair Value and Antidumping Duty Order, 64 FR 8308 (February 19, 1999) (Order).

² See Memorandum from Christian Marsh, Deputy Assistant Secretary, Antidumping and Countervailing Operations, to Paul Piquado, Assistant Secretary for Enforcement and Compliance, entitled “Certain Preserved Mushrooms from the People's Republic of China: Issues and Decision Memorandum for the Final Rescission,” issued concurrently with and hereby adopted by, this notice (Issues and Decision Memorandum).

Scope of the Order

The products covered by this order are certain preserved mushrooms, whether imported whole, sliced, diced, or as stems and pieces. The certain preserved mushrooms covered under this order are the species Agaricus bisporus and Agaricus bitorquis. “Certain Preserved Mushrooms” refers to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing. The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and Customs purposes, the written description of the scope of this order is dispositive.³

³ For a complete description of the scope of the order, see the Issues and Decision Memorandum.

Analysis of Comments Received

All issues raised in the case briefs by parties are addressed in the Issues and Decision Memorandum. A list of the issues which parties raised is attached to this notice as an Appendix.

Rescission of New Shipper Review

For the Preliminary Rescission, the Department analyzed the bona fides of Yuqiao's single U.S. sale during the POR, and preliminarily found it was not a bona fide sale.⁴ In Yuqiao's case brief, Yuqiao submitted comments on the Department's bona fides analysis.⁵ In this final rescission, we have analyzed Yuqiao's comments and continue to determine that Yuqiao's single U.S. sale is non-bona fide. Therefore, the Department is rescinding this NSR. For a complete discussion, see the Issues and Decision Memorandum.

⁴ See Preliminary Rescission; see also Memorandum from Michael J. Heaney to Scot Fullerton, Re: 2015 Antidumping Duty New Shipper Review of Certain Preserved Mushrooms from the People's Republic of China: Preliminary Bona Fide Sales Analysis for Linyi Yuqiao International Trade Co., Ltd., dated August 2, 2016.

⁵ See Letter from Linyi Yuqiao International Trade Co., Ltd. Re: Certain Preserved Mushrooms from the People's Republic of China; Yuqiao's Comments on the Department's Preliminary Rescission, dated September 7, 2016.

Assessment

As the Department is rescinding this NSR, we have not calculated a company-specific dumping margin for Yuqiao. However, the Department initiated an administrative review of the antidumping duty order on certain preserved mushrooms from the PRC covering numerous exporters, including Yuqiao, for the period of February 1, 2015 through January 31, 2016, which overlaps in part with the POR of this NSR.⁶ Thus, we will instruct U.S. Customs and Border Protection (CBP) to continue to suspend subject merchandise exported by Yuqiao and entered into the United States during the period February 1, 2015 through January 31, 2016 until CBP receives instructions relating to the administrative review of this order covering that period.

⁶ See Initiation of Antidumping and Countervailing Duty Administrative Reviews, 81 FR 20324, 20338-20240 (April 7, 2016).

Cash Deposit Requirements

Effective upon publication of this notice of final rescission of the NSR of Yuqiao, the Department will instruct U.S. Customs and Border Protection to discontinue the option of posting a bond or security in lieu of a cash deposit for entries of subject merchandise from Yuqiao. Because we did not calculate a dumping margin for Yuqiao or grant Yuqiao a separate rate in this NSR, Yuqiao continues to be part of the PRC-wide entity. The cash deposit rate applicable to the PRC-wide entity is 308.33 percent. The current cash deposit requirements shall remain in effect until further notice.

Administrative Protective Order

This notice also serves as a final reminder to parties subject to Administrative Protective Order (APO) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a violation which is subject to sanction.

We are issuing and publishing this notice in accordance with sections 751(a)(2)(B) and 777(i) of the Tariff Act of 1930, as amended, and 19 CFR 351.214.

Dated: December 29, 2016.
Paul Piquado,
Assistant Secretary for Enforcement and Compliance.

Appendix—Issues and Decision Memorandum

I. Summary

II. Background

III. Scope of the Order

IV. Discussion of the Issues

Comment 1: Whether the Department Properly Weighed the Bona Fide Criteria Established Under Section 751(a)(2)(B)(iv) of the Statute

Comment 2: Analysis of Sales Quantity, Timing, and Payment of Yuqiao's Sale

Comment 3: Analysis of the Behavior of Yuqiao, Yuqiao's Importer, and Yuqiao's Supplier

V. Recommendation

[FR Doc. 2016-31992 Filed 1-4-17; 8:45 am]

BILLING CODE 3510-DS-P